DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Nurse Faculty Loan Program (NFLP)—Annual Performance Report Financial Data Form.

OMB No.: 0915-0314—Revision.

Abstract: This clearance request is for approval of a revision to the Nurse Faculty Loan Program, Annual Performance Report (NFLP-APR) Financial Data Form. The form was previously titled the Nurse Faculty Loan Program, Annual Operating Report (NFLP-AOR).

Need and Proposed Use of the Information: The online NFLP-APR Financial Data Form is an online form that exists in the HRSA Electronic Handbooks (EHBs) Performance Report module as part of the NFLP, BHPr performance report under OMB Approval No: 0915-0061, expiration date: June 30, 2016. The revised NFLP-APR Financial Data Form will collect less data from applicants and will no longer include nursing student demographic data that was previously included. The nursing student demographic data is currently collected under OMB Approval No: 0915-0149. The revised NFLP-APR Financial Data Form will only collect financial data to capture the NFLP loan fund account activity related to financial receivables, disbursements, and borrower account data for employment status, loan cancellation, loan repayment, and collections. Participating schools will provide the federal government with current and cumulative information on: (1) NFLP loan funds received, (2) number and amount of NFLP loans made, (3) number and amount of loans collected, (4) number and amount of loans in repayment, (5) loan default rate percent, (6) number of NFLP graduates employed as nurse faculty, and (7) other related loan fund costs and activities.

Under Title VIII, section 846A of the Public Health Service Act, as amended by Public Law 111-148, the Secretary of Health and Human Services (HHS) enters into an agreement with a school of nursing and makes an award to the school. The award is used to establish a distinct account for the NFLP loan fund at the school. The school of nursing makes loans from the NFLP loan fund account to students enrolled full-time or part-time in a master's or doctoral nursing education program that will prepare them to become qualified nursing faculty. Following graduation from the NFLP lending school, loan recipients may receive up to 85 percent NFLP loan cancellation over a consecutive 4-year period in exchange for service as full-time faculty at a school of nursing. The NFLP lending school collects any portion of the loan that is not cancelled and any loans that go into repayment, and deposits these monies into the NFLP loan fund to make additional NFLP loans.

The school of nursing must keep records of all NFLP loan fund transactions. The NFLP-APR Financial Data Form is used to monitor grantee performance by collection of information relating to the NFLP loan fund operations and financial activities for a specified reporting period (July 1 through June 30, of the academic year). Participating schools are required to complete and submit the NFLP-APR Financial Data Form semi-annually. The data provided in the form are essential for HRSA to effectively monitor the school's use of NFLP funds in accordance with program guidelines. Approval of the revised NFLP-APR Financial Data Form will facilitate our current effort to determine future awards to the school.

The electronic data collection capability will streamline the report submission process, enable an efficient annual performance review process, and serve as a data repository to facilitate reporting on the use of funds and analysis of program outcomes.

Likely Respondents: Participating NFLP schools are required to adhere to reporting requirements.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden-Hours
Form name | Number of respondents | Number of responses per respondent | Total responses | Average burden per response (in hours) | Total burden hours
NFLP—Annual Performance Report Financial Data Form | 250 | 1 | 250 | 8 | 2,000
Total | 250 | 1 | 250 | 8 | 2,000

Dated: January 22, 2014.
Jackie Painter,
Deputy Director, Division of Policy and Information Coordination.

[FR Doc. 2014-01555 Filed 1-27-14; 8:45 am]

BILLING CODE 4165-15-P